DEPARTMENT OF TRANSPORTATION

Federal Aviation Administration

Notice of Opportunity for Public Comment on Release of Federally Obligated Land at the Statesboro-Bulloch County Airport (TBR), Statesboro, GA

AGENCY: Federal Aviation Administration (FAA), DOT.

ACTION: Notice.

SUMMARY: The FAA proposes to rule and invites public comment on the release of land at the Statesboro-Bulloch County Airport (TBR), Statesboro, Georgia, under the provisions of 49 U.S.C. 47107(h)(2).

DATES: Comments must be received on or before April 2, 2026.

ADDRESSES: Documents are available for review by prior appointment at the following location: Atlanta Airports District Office, Attn: Krishina J. Green, Planner, 1701 Columbia Ave., Suite 220, College Park, Georgia 30337-2747, Telephone: 404-305-5241.

Comments on this notice may be mailed or delivered in triplicate to the FAA at the following address: Atlanta Airports District Office, Attn: Krishina J. Green, Planner, 1701 Columbia Ave., Suite 220, College Park, Georgia 30337-2747.

In addition, one copy of any comments submitted to the FAA must be mailed or delivered to Cathy Boykin, Director of Airport Development, Statesboro-Bulloch County Airport at the following address: 115 North Main Street, Statesboro, Georgia 30458.

FOR FURTHER INFORMATION CONTACT: Krishina J. Green, Airport Planner, Atlanta Airports District Office, 1701 Columbia Ave., Suite 220, College Park, Georgia 30337-2747, (404) 305-5241. The application may be reviewed in person at this same location.

SUPPLEMENTARY INFORMATION: The FAA invites public comment on the request to release and sell one tract of land consisting of approximately 1.5 acres of airport property at the Statesboro-Bulloch County Airport (TBR) under the provisions of 49 U.S.C. 47107(h)(2). On January 8, 2026, the FAA determined the request to release property at the Statesboro-Bulloch County Airport (TBR) submitted by the Sponsor meets the procedural requirements of the Federal Aviation Administration and the release of the property does not and will not impact future aviation needs at the airport. The FAA may approve the request, in whole or in part, no sooner than thirty days after the publication of this notice.

The following is a brief overview of the request:

The Statesboro-Bulloch County Airport (TBR) is proposing the release of airport property containing 1.5 Acres, more or less. The release of land is necessary to comply with Federal Aviation Administration Grant Assurances that do not allow federally acquired airport property to be used for non-aviation purposes. The sale of the subject property will result in the land at the Statesboro-Bulloch County Airport (TBR) being changed from aeronautical to non-aeronautical use and release the lands from the conditions of the Airport Improvement Program Grant Agreement Grant Assurances in order to dispose of the land. In accordance with 49 U.S.C. 47107(c)(2)(B)(i) and (iii), the airport will receive fair market value for the property, which will be subsequently reinvested in another eligible airport improvement project for aviation use.

Any person may inspect, by appointment, the request in person at the FAA office listed above under FOR FURTHER INFORMATION CONTACT.

Issued in College Park, Georgia on February 26, 2026.
Joseph Parks Preston,
Manager, Atlanta Airports District Office, Southern Region.

[FR Doc. 2026-04141 Filed 3-2-26; 8:45 am]

BILLING CODE 4910-13-P